DEPARTMENT OF HOMELAND SECURITY

Federal Emergency Management Agency

[Docket ID FEMA-2025-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: David N. Bascom, Acting Director, Engineering and Modeling Division, National Flood Insurance Program, Resilience, FEMA, 400 C Street SW, Washington, DC 20472, or (email) david.bascom@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Assistant Administrator for the Federal Insurance Directorate, Resilience, has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

The current effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Elizabeth Asche,
Assistant Administrator, Federal Insurance Directorate, Resilience Federal Emergency Management Agency, Department of Homeland Security.

State and county | Location and case No. | Chief executive officer of community | Community map repository | Date of modification | Community No.
Arizona: Pinal (FEMA Docket No.: B-2542). | City of Casa Grande (25-09-0247P). | The Honorable Lisa Navarro Fitzgibbons, Mayor, City of Casa Grande, 510 East Florence Boulevard, Casa Grande, AZ 85122. | City Hall, 510 East Florence Boulevard, Casa Grande, AZ 85122. | Sep. 12, 2025 | 040080
California:
Riverside (FEMA Docket No.: B-2542). | City of Jurupa Valley (23-09-1402P). | The Honorable Brian Berkson, Mayor, City of Jurupa Valley, 8930 Limonite Avenue, Jurupa Valley, CA 92509. | City Hall, 8930 Limonite Avenue, Jurupa Valley, CA 92509. | Sep. 9, 2025 | 060286
Riverside (FEMA Docket No.: B-2542). | City of Menifee (25-09-0210P). | Armando G. Villa, City Manager, City of Menifee, 29844 Haun Road, Menifee, CA 92586. | City Hall, 29844 Haun Road, Menifee, CA 92586. | Sep. 12, 2025 | 060176
Riverside (FEMA Docket No.: B-2542). | City of Temecula (24-09-0182P). | The Honorable Brenden Kalfus, Mayor, City of Temecula, 41000 Main Street, Temecula, CA 92590. | City Hall, Public Works Department, 41000 Main Street, Temecula, CA 92590. | Sep. 22, 2025 | 060742
San Diego (FEMA Docket No.: B-2542). | City of Vista (24-09-0198P). | The Honorable John Franklin, Mayor, City of Vista, 200 Civic Center Drive, Vista, CA 92084. | Civic Center, 200 Civic Center Drive, Vista, CA 92084. | Sep. 8, 2025 | 060297
Colorado:
Arapahoe (FEMA Docket No.: B-2542). | City of Aurora (24-08-0576P). | The Honorable Mike Coffman, Mayor, City of Aurora, 15151 East Alameda Parkway, Aurora, CO 80012. | Public Works Department, 15151 East Alameda Parkway, Suite 3200, Aurora, CO 80012. | Sep. 12, 2025 | 080002
Arapahoe (FEMA Docket No.: B-2542). | Unincorporated areas of Arapahoe County (24-08-0576P). | The Honorable Leslie Summey, Chair, Arapahoe County Board of Commissioners, 5334 South Prince Street, Littleton, CO 80210. | Arapahoe County, Public Works and Development Department, 6924 South Lima Street, Centennial, CO 80112. | Sep. 12, 2025 | 080011
Gunnison (FEMA Docket No.: B-2542). | Unincorporated areas of Gunnison County (24-08-0251P). | The Honorable Laura Puckett Daniels, Chair, Gunnison County Board of Commissioners, 200 East Virginia Avenue, Gunnison, CO 81230. | Gunnison County Administration Building, 200 East Virginia Avenue, Gunnison, CO 81230. | Sep. 12, 2025 | 080078
Pitkin (FEMA Docket No.: B-2542). | City of Aspen (24-08-0425P). | The Honorable Rachel Richards, Mayor, City of Aspen, 427 Rio Grande Place, Aspen, CO 81611. | Engineering Department, 427 Rio Grande Place, Aspen, CO 81611. | Sep. 23, 2025 | 080143
Idaho: Canyon (FEMA Docket No.: B-2542). | Unincorporated areas of Canyon County (24-10-0627P). | The Honorable Brad Holton, Chair, Canyon County Board of Commissioners, 1115 Albany Street, Room 101, Caldwell, ID 83605. | Canyon County Development Services Department, 111 North 11th Avenue, Room 310, Caldwell, ID 83605. | Sep. 12, 2025 | 160208
Nevada: Clark (FEMA Docket No.: B-2542). | Unincorporated areas of Clark County (24-09-1045P). | The Honorable Tick Segerblom, Chair, Clark County Board of Commissioners, 500 South Grand Central Parkway, Las Vegas, NV 89155. | Clark County Government Center, 500 South Grand Central Parkway, Las Vegas, NV 89155. | Sep. 2, 2025 | 320003
North Carolina:
Guilford (FEMA Docket No. B-2551). | Town of Oak Ridge (24-04-7076P). | The Honorable Jim Kinneman, Mayor, Town of Oak Ridge, P.O. Box 374, Oak Ridge, NC 27310. | Planning and Zoning, 8315 Linville Road, Oak Ridge, NC 27310. | Oct. 30, 2025 | 370596
Henderson (FEMA Docket No.: B-2538). | Town of Fletcher (24-04-0421P). | The Honorable Preston Blakely, Mayor, Town of Fletcher, 300 Old Cane Creek Road, Fletcher, NC 28732. | Planning and Zoning Department, 300 Old Cane Creek Road, Fletcher, NC 28732. | Oct. 13, 2025 | 370568
Henderson (FEMA Docket No.: B-2538). | Town of Mills River (24-04-0421P). | The Honorable Shanon Gonce, Mayor, Town of Mills River, 124 Town Center Drive Mills River, NC 28759. | Planning and Zoning Department, 124 Town Center Drive, Mills River, NC 28759. | Oct. 13, 2025 | 370025
Henderson (FEMA Docket No.: B-2538). | Unincorporated areas of Henderson County (24-04-0421P). | The Honorable William Lapsley, Chair, Henderson County Board of Commissioners, 1 Historic Courthouse Square, Suite 1, Hendersonville, NC 28792. | Henderson County Planning Department 100 North King Street, Hendersonville, NC 28792. | Oct. 13, 2025 | 370125
Utah: Washington (FEMA Docket No.: B-2542). | City of St. George (24-08-0300P). | The Honorable Michele Randall, Mayor, City of St. George, 175 East 200 North, St. George, UT 84770. | City Hall, 175 East 200 North, St. George, UT 84770. | Sep. 4, 2025 | 490177

[FR Doc. 2025-23167 Filed 12-17-25; 8:45 am]

BILLING CODE 9110-12-P